DEPARTMENT OF ENERGY

Federal Energy Regulatory Commission

[Project No. 2149-131]

Public Utility District No. 1 of Douglas County; Notice of Settlement Agreement and Soliciting Comments

July 7, 2010.

Take notice that the following Settlement Agreement (Settlement) has been filed with the Commission and is available for public inspection.

a. Type of Application: Aquatic Settlement Agreement for the relicensing of the Wells Hydroelectric Project.

b. Project No.: P-2149-131.

c. Date Filed: May 27, 2010.

d. Applicant: Public Utility District No. 1 of Douglas County, Washington.

e. Location: The existing project is located at river mile 515.6 on the Columbia River in Chelan, Douglas, and Okanogan Counties in central Washington. The project occupies 15.15 acres of Federal land administered by the Department of the Interior and the U.S. Corps of Engineers.

g. Filed Pursuant to Rule 602 of the Commission's Rules of Practice and Procedure, 18 CFR 385.602 Federal Power Act 16 U.S.C. 791 (a)-825(r).

h. Applicant Contact: Shane Bickford, Natural Resources Supervisor, Public Utility District No. 1 of Douglas County, 1151 Valley Mall Parkway, East Wenatchee, WA 98802-4497; (509) 881-2208.

i. FERC Contact: Kim A. Nguyen (202) 502-6105 or e-mail at kim.nguyen@ferc.gov.

j. Deadline for filing comments on the Settlement: July 27, 2010. Reply comments due August 6, 2010. All comments should be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC.

k. The Public Utility District No. 1 of Douglas County (Douglas PUD) filed an aquatic settlement agreement (Settlement) on behalf of Douglas PUD; U.S. Fish and Wildlife Service; U.S. Bureau of Land Management; Washington Department of Fish and Wildlife; Washington Department of Ecology; Confederated Tribes of the Colville Reservation; and Confederated Bands and Tribes of the Yakama Nation (collectively, the Parties). The Settlement resolves among the Parties all remaining aquatic resource issues and includes proposed license articles and six aquatic resource management plans for white sturgeon, bull trout, Pacific lamprey, resident fish, aquatic nuisance species and water quality. The Parties request that the Commission accept and incorporate, without material modification, all of the proposed license articles in Attachment A of the Settlement in the new project license for the Wells Project.

l. A copy of the Settlement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects before the Commission. For assistance, contact FERC Online Support.

Kimberly D. Bose,
Secretary.

[FR Doc. 2010-17105 Filed 7-13-10; 8:45 am]

BILLING CODE 6717-01-P